DEPARTMENT OF TRANSPORTATION

Federal Aviation Administration

14 CFR Part 97

[Docket No. 30205; Amdt. No. 2013]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination

1. FAA Rules Docket, FAA Headquarters Building, 800 Independence Avenue, SW., Washington, DC 20591.

2. The FAA Regional Office of the region in which affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125); telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMS is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on September 29, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective Upon Publication

FDC date | State | City | Airport | FDC No. | SIAP
08/30/00 | PA | HAZELTON | HAZELTON MUNI | 0/0580 | LOC RWY 28 AMDT 5C... THIS CORRECTS FDC 0/0580 IN TL 00-21.
09/07/00 | KS | WICHITA | WICHITA MID-CONTINENT | 0/0964 | GPS RWY 19L, ORIG...
09/8/00 | AZ | SHOW LOW | SHOW LOW MUNI | 0/1046 | NDB OR GPS-A ORIG-A... THIS CORRECTS FDC 0/1046 IN TL 00-21.
09/08/00 | CO | EAGLE | EAGLE COUNTY REGIONAL | 0/1043 | LOC-B, AMDT 1...
09/08/00 | CO | EAGLE | EAGLE COUNTY REGIONAL | 0/1044 | LOC/DME-C, AMDT 2...
09/08/00 | MO | ST LOUIS | SPIRIT OF ST LOUIS | 0/1054 | ILS RWY 8R AMDT 13A... THIS CORRECTS FDC 0/1054 IN TL00-21.
09/08/00 | SC | ANDERSON | ANDERSON REGIONAL | 0/1025 | ILS RWY 5 ORIG...
09/08/00 | SC | ANDERSON | ANDERSON REGIONAL | 0/1026 | VOR OR GPS RWY 5 AMDT 9A...
09/08/00 | SC | ANDERSON | ANDERSON REGIONAL | 0/1037 | GPS RWY 23, ORIG...
09/12/00 | KY | LOUISVILLE | BOWMAN FIELD | 0/1547 | NDB OR GPS RWY 32 AMDT 15A...
09/13/00 | TN | KNOXVILLE | MCGHEE-TYSON | 0/1283 | HI-ILS RWY 5L AMDT 3...
09/14/00 | GA | STATESBORO | STATESBORO MUNI | 0/1352 | LOC RWY 32, AMDT 4B...
09/14/00 | KS | INDEPENDENCE | INDEPENDENCE MUNI | 0/1336 | VOR OR GPS-A, AMDT 1A...
09/14/00 | KS | INDEPENDENCE | INDEPENDENCE MUNI | 0/1337 | NDB RWY 35, ORIG-A...
09/14/00 | ND | OAKES | OAKES MUNI | 0/1307 | GPS RWY 30.
09/14/00 | OH | SEBRING | TRI-CITY | 0/1312 | VOR OR GPS RWY 17, AMDT 3A...
09/14/00 | TN | KNOXVILLE | MCGHEE-TYSON | 0/1305 | HI-VOR/DME OR TACAN RWY 5L, AMDT 2...
09/14/00 | TX | BIG SPRING | BIG SPRING MCMAHON-WRINKLE | 0/1333 | VOR/DME OR GPS RWY 35, AMDT 7...
09/14/00 | TX | PALACIOS | PALACIOS MUNI | 0/1327 | VOR RWY 13, AMDT 10...
09/14/00 | WI | FRIENDSHIP | ADAMS COUNTY LEGION FIELD | 0/1318 | GPS RWY 33, ORIG...
09/14/00 | WI | OSHKOSH | WITTMAN REGIONAL | 0/1317 | LOC/DME BC RWY 18, AMDT 6...
09/15/00 | GA | STATESBORO | STATESBORO MUNI | 0/1382 | NDB OR GPS RWY 32, AMDT 4A...
09/15/00 | KS | INDEPENDENCE | INDEPENDENCE MUNI | 0/1365 | GPS RWY 35, ORIG-A...
09/15/00 | PA | BEDFORD | BEDFORD COUNTY | 0/1375 | GPS RWY 14, ORIG-A...
09/15/00 | PA | BEDFORD | BEDFORD COUNTY | 0/1376 | GPS RWY 32, ORIG-A...
09/15/00 | PA | CLARION | CLARION COUNTY | 0/1403 | VOR/DME RNAV OR GPS RWY 24, ORIG...
09/15/00 | PA | CLARION | CLARION COUNTY | 0/1404 | VOR/DME RNAV OR GPS RWY 6, ORIG-A...
09/15/00 | PA | CLARION | CLARION COUNTY | 0/1405 | VOR OR GPS-A, AMDT 1A...
09/15/00 | SC | HILTON HEAD ISLAND | HILTON HEAD | 0/1391 | VOR/DME RNAV OR GPS RWY 3, AMDT 4A...
09/15/00 | SC | HILTON HEAD ISLAND | HILTON HEAD | 0/1392 | LOC/DME RWY 21, AMDT 2...
09/15/00 | SC | HILTON HEAD ISLAND | HILTON HEAD | 0/1393 | VOR/DME RNAV RWY 21, AMDT 4B...
09/15/00 | SC | HILTON HEAD ISLAND | HILTON HEAD | 0/1394 | VOR/DME OR GPS-A, AMDT 9B...
09/15/00 | TX | CHILDRESS | CHILDRESS MUNI | 0/1369 | VOR RWY 35, AMDT 9...
09/18/00 | KS | INDEPENDENCE | INDEPENDENCE MUNI | 0/1455 | GPS RWY 17, ORIG...
09/18/00 | TX | CHILDRESS | CHILDRESS MUNI | 0/1490 | GPS RWY 35, ORIG...
09/18/00 | TX | DALHART | DALHART MUNI | 0/1512 | VOR/DME OR GPS RWY 35, AMDT 2A...
09/19/00 | FL | CROSS CITY | CROSS CITY | 0/1543 | VOR OR GPS RWY 31, AMDT 17...
09/19/00 | FL | FORT LAUDERDALE | FORT LAUDERDALE-EXECUTIVE | 0/1554 | LS RWY 8, AMDT 4A...
09/19/00 | KY | LOUISVILLE | BOWMAN FIELD | 0/1546 | VOR RWY 24, AMDT 7A...
09/19/00 | KY | LOUISVILLE | LOUISVILLE INTL-STANDFORD FIELD | 0/1544 | NDB RWY 29, AMDT 19A...
09/19/00 | NC | WILMINGTON | WILMINGTON INTL | 0/1526 | LOC BC RWY 17, AMDT 7...
09/19/00 | NC | WILMINGTON | WILMINGTON INTL | 0/1527 | GPS RWY 6, AMDT 1...
09/19/00 | NC | WILMINGTON | WILMINGTON INTL | 0/1528 | GPS RWY 24, AMDT 1...
09/20/00 | TX | KERRVILLE | KERRVILLE MUNI/LOUIS SCHREINER FIELD | 0/1591 | NDB OR GPS RWY 30, AMDT 3...
09/20/00 | TX | KERRVILLE | KERRVILLE MUNI/LOUIS SCHREINER FIELD | 0/1592 | LOC RWY 30, AMDT 3...
09/20/00 | TX | KERRVILLE | KERRVILLE MUNI/LOUIS SCHREINER FIELD | 0/1593 | VOR/DME RNAV OR GPS RWY 12, AMDT 2...
09/20/00 | TX | KERRVILE | KERRVILLE MUNI/LOUIS SCHREINER FIELD | 0/1595 | VOR OR GPS-A, AMDT 2...
09/21/00 | AR | EL DORADO | SOUTH ARKANSAS REGIONAL AT GOODWIN FIELD | 0/1660 | VOR RWY 22, AMDT 13C...
09/21/00 | AR | EL DORADO | SOUTH ARKANSAS REGIONAL AT GOODWIN FIELD | 0/1660 | VOR/DME OR GPS RWY 4, AMDT 9A...
09/21/00 | AR | EL DORADO | SOUTH ARKANSAS REGIONAL AT GOODWIN FIELD | 0/1662 | GPS RWY 22, ORIG-A...
09/21/00 | AR | HELENA/WEST HELENA | THOMPSON-ROBBINS | 0/1709 | GPS RWY 35, AMDT 1...
09/21/00 | AR | MORRILTON | PETIT JEAN PARK | 0/1664 | GPS RWY 3, ORIG-A...
09/21/00 | AR | MOUNTAIN HOME | BAXTER COUNTY REGIONAL | 0/1656 | GPS RWY 23, ORIG-A...
09/21/00 | AR | MOUNTAIN HOME | BAXTER COUNTY REGIONAL | 0/1658 | VOR/DME RNAV RWY 5, AMDT 9B...
09/21/00 | AR | MOUNTAIN HOME | BAXTER COUNTY REGIONAL | 0/1659 | VOR-A, AMDT 9B...
09/21/00 | AR | MOUNTAIN HOME | BAXTER COUNTY REGIONAL | 0/1708 | GPS RWY 5, ORIG-B...
09/21/00 | AZ | KINGMAN | KINGMAN | 0/1580 | VOR/DME RWY 21 AMDT 6A... THIS REPLACES FDC 0/1048 IN TL 00-21.
09/21/00 | CO | DURANGO | DURANGO-LA PLATA COUNTY | 0/1614 | ILS/DME RWY 2, AMDT 2...
09/21/00 | CO | DURANGO | DURANGO-LA PLATA COUNTY | 0/1623 | VOR/DME RWY 2, AMDT 4...
09/21/00 | KS | WICHITA | WICHITA MID-CONTINENT | 0/1666 | VOR/DME RNAV OR GPS RWY 1L, AMDT 1A...
09/21/00 | KS | WICHITA | WICHITA MID-CONTINENT | 0/1667 | GPS RWY 32 ORIG...
09/21/00 | KS | WICHITA | WICHITA MID-CONTINENT | 0/1690 | VOR/DME RNAV OR GPS RWY 19R, AMDT 1... THIS REPLACES FDC 0/0961.
09/21/00 | MO | CAPE GIRARDEAU | CAPE GIRARDEAU REGIONAL | 0/1670 | ILS RWY 10, AMDT 10...
09/21/00 | MS | GREENWOOD | GREENWOOD-LEFLORE | 0/1583 | ILS RWY 18, AMDT 5A...
09/21/00 | OR | PORTLAND | PORTLAND INTL | 0/1678 | ILS RWY 10L, AMDT 1B...
09/21/00 | OR | PORTLAND | PORTLAND INTL | 0/1679 | ILS RWY 28R, AMDT 12A...
09/21/00 | OR | PORTLAND | PORTLAND INTL | 0/1680 | ILS RWY 28L, ORIG-A...
09/21/00 | OR | PORTLAND | PORTLAND INTL | 0/1682 | ILS RWY 10R (CAT I, II AND III), AMDT 31...
09/21/00 | PA | CLEARFIELD | CLEARFIELD-LAWRENCE | 0/1581 | GPS RWY 30 ORIG...
09/21/00 | PA | CLEARFIELD | CLEARFIELD-LAWRENCE | 0/1582 | VOR RWY 30 AMDT 5...
09/21/00 | PA | MYERSTOWN | DECK | 0/1604 | VOR/DME OR GPS-A AMDT 1A...
09/21/00 | TX | PAMPA | PERRY LEFORS FIELD | 0/1694 | VOR/DME OR GPS-A, AMDT 2...
09/21/00 | TX | PAMPA | PERRY LEFORS FIELD | 0/1695 | NDB RWY 17, AMDT 4...
09/21/00 | TX | PAMPA | PERRY LEFORS FIELD | 0/1700 | GPS RWY 17, ORIG...
09/21/00 | VA | PETERSBURG | PETERSBURG MUNI | 0/1673 | NDB OR GPS RWY 5 AMDT 4B...
09/21/00 | VA | PETERSBURG | PETERSBURG MUNI | 0/1674 | LOC RWY 5 ORIG-C...
09/22/00 | DC | WASHINGTON | WASHINGTON DULLES INTL | 0/1746 | ILS RWY 12 AMDT 6C...
09/25/00 | TX | PLAINVIEW | HALE COUNTY | 0/1827 | VOR RWY 4, AMDT 9...
09/25/00 | TX | PLAINVIEW | HALE COUNTY | 0/1844 | GPS RWY 22, ORIG...
09/26/00 | TX | SPEARMAN | SPEARMAN MUNI | 0/1911 | VOR/DME OR GPW RWY 2, ORIG...
09/27/00 | MO | KANSAS CITY | KANSAS CITY INTL | 0/1947 | ILS RWY 9, AMDT 11A...
09/27/00 | ND | MOHALL | MOHALL MUNI | 0/1981 | VOR/DME OR GPS RWY 31, AMDT 2B...
09/27/00 | TX | WICHITA FALLS | SHEPPARD AFB/WICHITA FALLS MUNI | 0/1923 | NDB OR GPS RWY 33L, AMDT 10A...
09/27/00 | TX | WICHITA FALLS | SHEPPARD AFB/WICHITA FALLS MUNI | 0/1924 | ILS RWY 33L, AMDT 12B...
09/28/00 | TX | DALHART | DALHART MUNI | 0/2001 | VOR RWY 17, AMDT 12A...
09/28/00 | TX | DALHART | DALHART MUNI | 0/2002 | GPS RWY 17, ORIG...

[FR Doc. 00-25634 Filed 10-4-00; 8:45 am]

BILLING CODE 4910-13-M